OFFICE OF PERSONNEL MANAGEMENT

5 CFR Part 362

RIN 3206-AO85

Pathways Presidential Management Fellows Program: Variation

AGENCY: Office of Personnel Management.

ACTION: Notification.

SUMMARY: The Office of Personnel Management (OPM) is providing notice that the Director is authorizing a variation from the Pathways Presidential Management Fellows (PMF) Program regulations under which current Fellows remain employed. The Director has found that such variation is necessary and will further the objectives set forth by the President in Executive Order (E.O.) 14217.

DATES: This variation is effective from August 11, 2025 until the remaining Fellows have been converted out of the Program or their appointments have expired but not later than July 1, 2026, except that Fellows who have completed more than one year of the PMF Program as of August 11, 2025 must complete their requirements and be converted or their appointments will expire not later than December 31, 2025.

FOR FURTHER INFORMATION CONTACT: Katika Floyd by telephone at (202) 606-0960; or by email at employ@opm.gov.

SUPPLEMENTARY INFORMATION: In a related final rule published elsewhere in this edition of the Federal Register, OPM removed regulations implementing the PMF Program in accordance with section 2(e) of E.O. 14217, “Commencing the Reduction of the Federal Bureaucracy” (90 FR 10577, Feb. 25, 2025). However, several hundred Fellows remain employed under the PMF appointment authority. Accordingly, pursuant to 5 CFR 5.1, the Director has determined that a variation is necessary to effectuate the completion of their appointments. The elimination of the PMF Program presents a unique practical difficulty for the agencies employing these individuals; however, retaining the current regulations would delay implementation of the President's direction to sunset the PMF Program. See 5 CFR 5.1(a). Furthermore, the Director finds that providing a mechanism to transition these employees out of the PMF Program will promote the efficiency of the Government as these employees represent top talent that is high achieving and motivated, and their contributions to the American people will be of great value. See 5 CFR 5.1(c). The provisions of this variation apply only to an employee serving under an appointment under § 213.3402(c) as of August 11, 2025 (for the purposes of this variation, “current Fellows”) until the remaining Fellows have been converted out of the Program or their appointments have expired. 5 CFR 5.1(d).

Although OPM seeks to provide a mechanism for transitioning current Fellows out of the PMF Program and into the competitive service, OPM also remains committed to ensuring that basic standards are applied prior to permitting conversion, adhering to the spirit of the regulations, and protecting and promoting the efficiency of the Government and the integrity of the competitive service. Accordingly, agencies must continue to apply PMF Program requirements as codified at 5 CFR part 362, subpart D, as it appeared in the January 1, 2025, edition of 5 CFR parts 1-699 (Vol.1) subject to the following variations. See 5 CFR 5.1(b).

When the current Fellows were appointed, the expected duration of the program was two years. See § 362.404(a)(1). Similarly, § 362.408 provided that, as a condition of employment, a Fellow's appointment expired at the end of the “2-year” program. Because the President directed the prompt termination of the program, this variation shortens the expected duration of the program. For the purposes of § 362.408, a Fellow's appointment continues to expire at the end of the program as follows. For current Fellows who have not completed one year as of August 11, 2025, appointments under § 213.3402(c) may not exceed one year, at which time the Fellow must convert, or else their appointment will expire and they will be separated from Federal service. For current Fellows who have already completed one year, each Fellow must convert after completion of the Program requirements as revised by this variation, but no later than December 31, 2025, or else their appointment will expire, and they will be separated from Federal service. The PMF Program permitted an agency to extend a Fellow's appointment up to 120-days to allow processing of a conversion (see § 362.404(b)); that allowance is unchanged.

The PMF Program required an agency to provide each Fellow with at least one four- to six-month developmental assignment. See § 362.405(b)(4). To facilitate prompt winddown of the program, for current Fellows, OPM is removing the requirement for a developmental assignment. Nonetheless, agencies are encouraged to provide a reduced assignment of 30- to 60-days, if possible.

The PMF Program required an agency to provide each Fellow a minimum of 80 hours of formal interactive training per year. See § 362.405(b)(2). To ease operational burdens on agencies as the program winds down, OPM is removing the requirement for training. However, OPM encourages agencies to proactively notify Fellows of appropriate training opportunities and work with each Fellow to develop a mutually agreeable training plan. Because of steps taken to eliminate the PMF Program, OPM will not provide leadership development activities and general Program resources or information on available training opportunities known to it, as described in § 362.405(b)(1).

Finally, prior to conversion, each current Fellow must complete the requirements of the Program, as revised by this variation, and program completion must be verified. However, the requirement for the Executive Review Board certification before conversion is waived. See § 362.405(d). Completion of the program may be verified by senior agency official or officials who have been given responsibility for executive resources management and oversight by the agency head. The determination regarding completion of the program is in the sole discretion of such leadership (or designees) and no appeal to OPM will be provided. The agency should not forward proof of verification to OPM, as the PMF Program is being eliminated.

Office of Personnel Management.
Stephen Hickman,
Federal Register Liaison.

[FR Doc. 2025-15236 Filed 8-8-25; 8:45 am]

BILLING CODE 6325-39-P